DEPARTMENT OF THE INTERIOR

National Indian Gaming Commission

25 CFR Parts 517, 584, and 585

RIN 3141-AA21, 3141-AA57

Various National Indian Gaming Commission Regulations

AGENCY: National Indian Gaming Commission.

ACTION: Correcting amendments.

SUMMARY: The National Indian Gaming Commission (NIGC) amends various regulations previously issued. The NIGC moved its headquarters and needs to update the address. The agency also revises two headings by shortening them.

DATES: Effective November 17, 2016.

FOR FURTHER INFORMATION CONTACT: Mary Modrich-Alvarado, Staff Attorney, (202) 632-7003.

SUPPLEMENTARY INFORMATION:

I. Background

The Indian Gaming Regulatory Act (IGRA or the Act), Public Law 100-497, 25 U.S.C. 2701 et seq., was signed into law October 17, 1988. The Act established the NIGC and set out a comprehensive framework for the regulation of gaming on Indian lands. The purposes of the Act include: Providing a statutory basis for the operation of gaming by Indian tribes as a means of promoting tribal economic development, self-sufficiency, and strong tribal governments; ensuring that the Indian tribe is the primary beneficiary of the gaming operation; and declaring that the establishment of independent federal regulatory authority for gaming on Indian lands, the establishment of federal standards for gaming on Indian lands, and the establishment of a National Indian Gaming Commission are necessary to meet congressional concerns regarding gaming and to protect such gaming as a means of generating tribal revenue. 25 U.S.C. 2702.

II. Corrections

25 CFR Part 517—Freedom of Information Act Procedures

This document revises 25 CFR 517.2 to reflect the correct physical address. This document also amends 25 CFR 517.4(a) and 517.8(b)(2) to reflect the correct mailing address.

25 CFR Part 584—Appeals Before a Presiding Official

This document revises the heading of 25 CFR part 584.

25 CFR Part 585—Appeals to the Commission

This document revises the heading of 25 CFR part 585.

III. Certain Findings

Under the Administrative Procedure Act, a notice of proposed rulemaking is not required when an agency, for good cause, finds that notice and public comments are impractical, unnecessary, or contrary to the public interest. Because the revisions here are technical in nature and intended solely to update the NIGC's current mailing address the NIGC is publishing a technical amendment.

IV. Regulatory Matters

Executive Order 13175

The National Indian Gaming Commission is committed to fulfilling its tribal consultation obligations—whether directed by statute or administrative action such as Executive Order 13175 (Consultation and Coordination with Indian Tribal Governments)—by adhering to the consultation framework described in its Consultation Policy published on July 15, 2013. Due to the ministerial nature of the action being taken here, consultation is not required under the NIGC's Consultation Policy.

Regulatory Flexibility Act

This rule will not have a significant economic effect on a substantial number of small entities as defined by the Regulatory Flexibility Act, 5 U.S.C. 601, et seq. Indian tribes are not considered to be small entities for purposes of the Regulatory Flexibility Act.

Small Business Regulatory Enforcement Fairness Act

This rule is not a major rule under 5 U.S.C. 804(2), the Small Business Regulatory Enforcement Fairness Act. This rule will not result in an annual effect on the economy of $100 million per year or more. This rule will not cause a major increase in costs or prices for consumers, individual industries, federal, state, or local government agencies, or geographic regions and does not have a significant adverse effects on competition, employment, investment, productivity, innovation, or on the ability of U.S.-based enterprises to compete with foreign-based enterprises.

Unfunded Mandates Reform Act

The Commission, as an independent regulatory agency, is exempt from compliance with the Unfunded Mandates Reform Act, 2 U.S.C. 1502(1); 2 U.S.C. 658(1).

Takings

In accordance with Executive Order 12630, the Commission determined the rule does not have significant takings implications. A takings implication assessment is not required.

Civil Justice Reform Act

In accordance with Executive Order 12988, the Commission determined the rule does not unduly burden the judicial system and meets the requirements of sections 3(a) and 3(b)(2) of the Executive Order.

National Environmental Policy Act

The Commission determined this rule does not constitute a major federal action significantly affecting the quality of the human environment and that a detailed statement is not required pursuant to the National Environmental Policy Act of 1969, 42 U.S.C. 4321, et seq.

Paperwork Reduction Act

The rule does not contain any information collection requirements for which Office of Management and Budget approval under the Paperwork Reduction Act (44 U.S.C. 3501-3520) is required.

List of Subjects

25 CFR Part 517

Freedom of information.

25 CFR Part 584

Administrative practice and procedure, Gambling.

25 CFR Part 585

Administrative practice and procedure, Gambling, Indians—lands, Penalties.

For the reasons set forth in the preamble, the NIGC amends 25 CFR parts 517, 584, and 585 as follows:

PART 517—FREEDOM OF INFORMATION ACT PROCEDURES

1. The authority citation for part 517 continues to read as follows:

Authority: 5 U.S.C. 552, as amended.

2. Revise the first sentence of § 517.2 to read as follows:

§ 517.2 Public reading room.

Records that are required to be maintained by the Commission shall be available for public inspection and copying at 90 K Street NE., Suite 200, Washington, DC 20002. * * *

3. Revise the first two sentences of § 517.4(a) to read as follows:

§ 517.4 Requirements for making requests.

(a) How to make a FOIA request. Requests for records made pursuant to the FOIA must be in writing. Requests should be sent to the National Indian Gaming Commission, Attn: FOIA Officer, C/O Department of Interior, 1849 C Street NW., Mailstop #1621, Washington, DC 20240. * * *

* * * * *

4. Revise the last sentence in § 517.8(b)(2) to read as follows:

§ 517.8 Appeals.

* * * * *

(b) * * *

(2) * * * The appeal shall be addressed to the National Indian Gaming Commission, Attn: FOIA Appeals Officer, C/O Department of Interior, 1849 C Street NW., Mailstop #1621, Washington, DC 20240.

* * * * *

PART 584—APPEALS BEFORE A PRESIDING OFFICIAL

5. The authority citation for part 584 continues to read as follows:

Authority: 25 U.S.C. 2706, 2710, 2711, 2712, 2713, 2715, 2717.

6. Revise the heading of part 584 to read as set forth above.

PART 585—APPEALS TO THE COMMISSION

7. The authority citation for part 585 continues to read as follows:

Authority: 25 U.S.C. 2706, 2710, 2711, 2712, 2713, 2715, 2717.

8. Revise the heading of part 585 to read as set forth above.

Dated: October 17, 2016.
Jonodev O. Chaudhuri,
Chairman.
Kathryn Isom-Clause,
Vice Chair.
E. Sequoyah Simermeyer,
Associate Commissioner.

[FR Doc. 2016-26060 Filed 11-1-16; 8:45 am]

BILLING CODE 7565-01-P